DEPARTMENT OF HOMELAND SECURITY

Coast Guard

33 CFR Parts 100, 117, 147, and 165

[USCG-2011-0732]

Quarterly Listings; Safety Zones, Security Zones, Special Local Regulations, Drawbridge Operation Regulations and Regulated Navigation Areas

AGENCY: Coast Guard, DHS.

ACTION: Notice of expired temporary rules issued.

SUMMARY: This document provides required notice of substantive rules issued by the Coast Guard and temporarily effective between December 2008 and July 2010, that expired before they could be published in the Federal Register. This notice lists temporary safety zones, security zones, special local regulations, drawbridge operation regulations and regulated navigation areas, all of limited duration and for which timely publication in the Federal Register was not possible.

DATES: This document lists temporary Coast Guard rules between December 7, 2008 and July 25, 2010 that became effective and were terminated before they could be published in the Federal Register.

ADDRESSES: The Docket Management Facility maintains the public docket for this notice. Documents indicated in this notice will be available for inspection or copying at the Docket Management Facility (M-30), U.S. Department of Transportation, West Building ground floor, room W12-140, 1200 New Jersey Avenue, SE., Washington, DC 20590 between 9 a.m. and 5 p.m., Monday through Friday, except federal holidays.

FOR FURTHER INFORMATION CONTACT: For questions on this notice contact Yeoman First Class Denise Johnson, Office of Regulations and Administrative Law, telephone (202) 372-3862. For questions on viewing, or on submitting material to the docket, contact Ms. Angie Ames, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events.

Regulated Navigation Areas are water areas within a defined boundary for which regulations for vessels navigating within the area have been established by the regional Coast Guard District Commander. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones, security zones, special local regulations, regulated navigation areas or drawbridge operation regulations by Coast Guard officials' on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register.

Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between December 2008 and July 2010 unless otherwise indicated.

Dated: July 21, 2011.
K.A. Sinniger,
Chief, Office of Regulations and Administrative Law.

1st-4th Quarter 2010 Listing
Docket No. | Location | Type | Effective date
CGD13-04-019 | Puget Sound, WA | Security Zone (Part 165) | 3/14/2010
CGD13-04-019 | Commencement Bay, WA | Security Zone (Part 165) | 9/16/2010
USCG-2008-0994 | Aucilla River, FL | Safety Zone (Part 165) | 11/9/2009
USCG-2008-1096 | Port Portland Zone | Safety Zone (Part 165) | 7/3/2010
USCG-2009-0040 | La Push, WA | Safety Zone (Part 165) | 7/7/2010
USCG-2009-0174 | North Landing River, NC | Safety Zone (Part 165) | 3/26/2010
USCG-2009-0292 | Niagara Falls, NY | Safety Zone (Part 165) | 4/17/2010
USCG-2009-0416 | Oahu, HI | Security Zone (Part 165) | 12/21/2010
USCG-2009-0416 | Oahu, HI | Security Zone (Part 165) | 1/3/2011
USCG-2009-0647 | Fort Walton Beach, FL | Safety Zone (Part 165) | 11/9/2009
USCG-2009-0653 | Marion Co., TN | Safety Zone (Part 165) | 8/2/2010
USCG-2009-0721 | Harriman, TN | Safety zone (Part 165) | 5/15/2010
USCG-2009-0943 | Ocean Side, CA | Special Local Regulation (Part 100) | 3/27/2010
USCG-2009-0950 | Madisonville, LA | Safety Zone (Part 165) | 12/31/2009
USCG-2009-0951 | Lower Mississippi River | Safety Zone (Part 165) | 10/17/2010
USCG-2009-0978 | Destin, FL | Safety Zone (Part 165) | 11/7/2009
USCG-2009-1005 | Willamette Rivers | Security Zone (Part 165) | 7/7/2010
USCG-2009-1006 | Port Townsend, WA | Safety Zone (Part 165) | 1/9/2010
USCG-2009-1030 | Parker, AZ | Safety Zone (Part 165) | 9/24/2010
USCG-2009-1035 | Seattle, WA | Safety Zone (Part 165) | 9/9/2010
USCG-2009-1036 | Seattle, WA | Safety Zone (Part 165) | 9/16/2010
USCG-2009-1037 | Seattle, WA | Safety Zone (Part 165) | 9/23/2010
USCG-2009-1081 | New Orleans, LA | Safety Zone (Part 165) | 12/23/2009
USCG-2009-1084 | Rio Vista, CA | Safety Zone (Part 165) | 10/10/2009
USCG-2009-1094 | Crown Point, NY | Safety Zone (Part 165) | 12/23/2009
USCG-2009-1108 | Parker, AZ | Safety Zone (Part 165) | 11/26/2010
USCG-2009-1109 | Parker, AZ | Safety Zone (Part 165) | 10/29/2010
USCG-2009-1112 | Parker, AZ | Special Local Regulation (Part 100) | 3/13/2010
USCG-2009-1113 | Parker, AZ | Safety Zone (Part 165) | 3/27/2010
USCG-2009-1119 | Valdez, AK | Safety Zone (Part 165) | 12/26/2009
USCG-2009-1133 | San Francisco, CA | Drawbridge Operations Regulation (Part 117) | 1/30/2010
USCG-2010-0001 | Ship Channel, LA | Security Zone (Part 165) | 1/10/2010
USCG-2010-0016 | Guam | Safety zone (Part 165) | 3/1/2010
USCG-2010-0017 | Guam | Safety Zone (Part 165) | 3/4/2010
USCG-2010-0018 | Waterway, TX | Security Zone (Part 165) | 1/10/2010
USCG-2010-0019 | Laughlin, NV | Safety Zone ( Part 165) | 7/4/2010
USCG-2010-0022 | Morehead City, NC | Safety Zone (Part 165) | 1/14/2010
USCG-2010-0024 | Cameron, LA | Safety Zone (Part 165) | 1/13/2010
USCG-2010-0026 | San Diego, CA | Safety Zone (Part 165) | 2/14/2010
USCG-2010-0027 | Miami, FL | Security Zone (Part 165) | 1/15/2010
USCG-2010-0034 | East Boston, MA | Drawbridge Operations Regulation (Part 117) | 2/26/2010
USCG-2010-0045 | Fairfax County, VA | Security Zone (Part 165) | 1/26/2010
USCG-2010-0046 | Baltimore, MD | Security Zone (Part 165) | 1/28/2010
USCG-2010-0049 | Port Arthur, TX | Safety Zone (Part 165) | 1/23/2010
USCG-2010-0058 | Chesapeake, VA | Safety Zone (Part 165) | 1/28/2010
USCG-2010-0067 | San Diego, CA | Special Local Regulation (Part 100) | 3/27/2010
USCG-2010-0079 | Port Arthur, TX | Safety Zone (Part 165) | 2/2/2010
USCG-2010-0080 | Sabine, TX | Security Zone (Part 165) | 12/7/2008
USCG-2010-0086 | Port Huron, MI | Safety Zone (Part 165) | 4/21/2010
USCG-2010-0092 | Lower Hudson River, NJ & NY | Regulated Navigation Area (Part 165) | 6/17/2010
USCG-2010-0095 | San Francisco, CA | Safety Zone (Part 165) | 4/10/2010
USCG-2010-0099 | Knoxville, TN | Safety Zone (Part 165) | 5/9/2010
USCG-2010-0103 | Lake Ponchartrain Beach | Safety Zone (Part 165) | 4/18/2010
USCG-2010-0107 | Sabine, TX | Security Zone (Part 165) | 2/11/2010
USCG-2010-0108 | Charleston, WV | Safety Zone (Part 165) | 4/24/2010
USCG-2010-0109 | San Diego, CA | Safety Zone (Part 165) | 7/4/2010
USCG-2010-0111 | Vicksburg, MS | Safety Zone (Part 165) | 4/17/2010
USCG-2010-0130 | Chicago, IL | Safety Zone (Part 165) | 3/1/2010
USCG-2010-0131 | San Diego, CA | Safety Zone (Part 165) | 3/15/2010
USCG-2010-0140 | Sacramento, CA | Drawbridge Operations Regulation (Part 117) | 3/14/2010
USCG-2010-0140 | Discovery Bay, CA | Drawbridge Operations Regulation (Part 117) | 4/5/2010
USCG-2010-0147 | Seattle, WA | Safety Zone (Part 165) | 8/24/2010
USCG-2010-0148 | Seattle, WA | Safety Zone (Part 165) | 9/29/2010
USCG-2010-0149 | Seattle, WA | Security Zone (Part 165) | 10/25/2010
USCG-2010-0153 | Ocean City, MD | Safety Zone (Part 165) | 6/4/2010
USCG-2010-0157 | Allegheny River, PA | Special Local Regulation (Part 100) | 6/5/2010
USCG-2010-0165 | Romeoville, IL | Safety Zone (Part 165) | 3/10/2010
USCG-2010-0166 | Chicago, IL | Safety Zone (Part 165) | 5/20/2010
USCG-2010-0170 | San Francisco, CA | Special Local Regulation (Part 100) | 4/25/2010
USCG-2010-0174 | North Landing River, NC | Safety Zone (Part 165) | 3/26/2010
USCG-2010-0191 | Memphis, TN | Safety Zone (Part 165) | 4/17/2010
USCG-2010-0197 | Sacramento, CA | Drawbridge Operations Regulation (Part 117) | 3/27/2010
USCG-2010-0201 | San Francisco, CA | Special Local Regulation (Part 100) | 4/25/2010
USCG-2010-0211 | Monroe, LA | Safety Zone (Part 165) | 7/3/2010
USCG-2010-0213 | Mission Bay, CA | Safety Zone (Part 165) | 12/3/2010
USCG-2010-0216 | Pittsburgh, PA | Special Local Regulation (Part 100) | 7/11/2010
USCG-2010-0218 | Sabine, TX | Security Zone (Part 165) | 4/1/2010
USCG-2010-0219 | Waterway, TX | Security Zone (Part 165) | 3/29/2010
USCG-2010-0222 | Parish, LA | Security Zone (Part 165) | 3/25/2010
USCG-2010-0224 | Lake Washington, WA | Safety Zone (Part 165) | 4/15/2010
USCG-2010-0233 | Hickory, TN | Safety Zone (Part 165) | 4/17/2010
USCG-2010-0236 | Calcasieu River, LA | Security Zone (Part 165) | 3/31/2010
USCG-2010-0237 | Cameron Parish, LA | Security Zone (Part 165) | 4/1/2010
USCG-2010-0242 | Boston, MA | Safety Zone (Part 165) | 5/8/2010
USCG-2010-0243 | Lower Mississippi River | Safety Zone (Part 165) | 3/29/2010
USCG-2010-0244 | Miami, FL | Security Zone (Part 165) | 4/1/2010
USCG-2010-0252 | Chicago, IL | Safety Zone (Part 165) | 4/12/2010
USCG-2010-0253 | Charleston, SC | Special Local Regulation (Part 100) | 4/17/2010
USCG-2010-0258 | Calcasieu River, LA | Security Zone (Part 165) | 4/7/2010
USCG-2010-0263 | Sabine, TX | Security Zone (Part 165) | 4/7/2010
USCG-2010-0264 | Cameron Parish, LA | Security Zone (Part 165) | 4/7/2010
USCG-2010-0267 | Philadelphia, PA | Security Zone (Part 165) | 4/6/2010
USCG-2010-0270 | Boston, MA | Safety Zone (Part 165) | 4/26/2010
USCG-2010-0273 | Charleston, WV | Safety Zone (Part 165) | 6/4/2010
USCG-2010-0278 | Arlington County, VA | Security Zone (Part 165) | 4/10/2010
USCG-2010-0280 | Port Clarence, AK | Safety Zone (Part 165) | 4/25/2010
USCG-2010-0282 | Louisiana | Security Zone (Part 165) | 4/11/2010
USCG-2010-0284 | Miami Beach, FL | Security Zone (Part 165) | 4/15/2010
USCG-2010-0286 | New Orleans, LA | Safety Zone (Part 165) | 4/10/2010
USCG-2010-0291 | Buffalo, NY | Safety Zone (Part 165) | 4/17/2010
USCG-2010-0296 | Augusta, GA | Safety Zone (Part 165) | 5/15/2010
USCG-2010-0297 | Pittsburgh, PA | Safety Zone (Part 165) | 5/7/2010
USCG-2010-0298 | Detroit, MI | Safety Zone (Part 165) | 4/15/2010
USCG-2010-0300 | Louisiana | Security Zone (Part 165) | 4/23/2010
USCG-2010-0301 | Waterway, TX | Security Zone (Part 165) | 4/28/2010
USCG-2010-0304 | Wilmington, DE | Security Zone (Part 165) | 4/21/2010
USCG-2010-0306 | Secaucus, NJ | Drawbridge Operations Regulation (Part 117) | 5/18/2010
USCG-2010-0308 | Memphis, TN | Special Local Regulation (Part 100) | 7/30/2010
USCG-2010-0310 | Winfield, WV | Safety Zone (Part 165) | 4/20/2010
USCG-2010-0318 | Pittsburg, PA | Safety Zone (Part 165) | 5/28/2010
USCG-2010-0323 | Gulf of Mexico | Safety Zone (Part 165) | 4/21/2010
USCG-2010-0326 | Tiptonville, TN | Safety Zone (Part 165) | 10/9/2010
USCG-2010-0328 | Detroit, MI | Safety Zone (Part 165) | 4/25/2010
USCG-2010-0335 | New London, CT | Security Zone (Part 165) | 5/19/2010
USCG-2010-0336 | Wheeling, WV | Safety Zone (Part 165) | 7/24/2010
USCG-2010-0345 | Seattle | Special Local Regulation (Part 100) | 8/6/2010
USCG-2010-0353 | Memphis, TN | Safety Zone (Part 165) | 5/28/2010
USCG-2010-0357 | Sacramento, CA | Drawbridge Operations Regulation (Part 117) | 5/30/2010
USCG-2010-0358 | Catawba Island, OH | Safety Zone (Part 165) | 8/13/2010
USCG-2010-0359 | Philadelphia, PA | Security Zone (Part 165) | 5/4/2010
USCG-2010-0360 | San Diego, CA | Safety Zone (Part 165) | 5/18/2010
USCG-2010-0372 | Cordell Hull, TN | Safety Zone (Part 165) | 5/3/2010
USCG-2010-0379 | Detroit, MI | Safety Zone (Part 165) | 5/5/2010
USCG-2010-0381 | Pickwick, TN | Safety Zone (Part 165) | 5/4/2010
USCG-2010-0382 | Uniontown, KY | Safety Zone (Part 165) | 7/5/2010
USCG-2010-0384 | North Palm Beach, FL | Safety Zone (Part 165) | 5/18/2010
USCG-2010-0385 | Morgantown, WV | Special Local Regulation (Part 100) | 8/8/2010
USCG-2010-0390 | Hampton, VA | Security Zone (Part 165) | 5/9/2010
USCG-2010-0411 | Baltimore, MD | Safety Zone (Part 165) | 5/13/2010
USCG-2010-0413 | San Francisco, CA | Drawbridge Operations Regulation (Part 117) | 6/12/2010
USCG-2010-0416 | San Diego, CA | Safety Zone (Part 165) | 7/3/2010
USCG-2010-0416 | San Diego, CA | Safety Zone (Part 165) | 7/4/2010
USCG-2010-0417 | San Diego, CA | Safety Zone (Part 165) | 7/4/2010
USCG-2010-0420 | San Diego, CA | Security Zone (Part 165) | 5/29/2010
USCG-2010-0421 | San Diego, CA | Safety Zone (Part 165) | 7/4/2010
USCG-2010-0426 | Portland International | Safety Zone (Part 165) | 6/5/2010
USCG-2010-0428 | Point Pleasant, NJ | Safety Zone (Part 165) | 5/17/2010
USCG-2010-0433 | Wellsburg, WV | Safety Zone (Part 165) | 7/4/2010
USCG-2010-0438 | Waterway, TX | Security Zone (Part 165) | 5/23/2010
USCG-2010-0450 | Waterway, TX | Security Zone (Part 165) | 6/3/2010
USCG-2010-0451 | Sabine, TX | Security Zone (Part 165) | 6/18/2010
USCG-2010-0460 | Pittsburgh, PA | Safety Zone (Part 165) | 7/3/2010
USCG-2010-0465 | Lake Michigan | Security Zone (Part 165) | 5/27/2010
USCG-2010-0468 | Lake Michigan | Security Zone (Part 165) | 5/28/2010
USCG-2010-0474 | Cape May, NJ | Security Zone (Part 165) | 5/29/2010
USCG-2010-0481 | Pittsburgh, PA | Safety Zone (Part 165) | 8/25/2010
USCG-2010-0490 | Pittsburgh, PA | Security Zone (Part 165) | 6/2/2010
USCG-2010-0493 | Pacific Ocean, CA | Safety Zone (Part 165) | 8/11/2010
USCG-2010-0495 | Budd Inlet, WA | Safety Zone (Part 165) | 9/2/2010
USCG-2010-0499 | New York, NY | Safety Zone (Parts 147 and 165) | 6/15/2010
USCG-2010-0500 | National Harbor, MD | Safety Zone (Part 165) | 6/4/2010
USCG-2010-0503 | Glenbrook, NV | Safety Zone (Part 165) | 7/4/2010
USCG-2010-0510 | Lapointe, WI | Safety Zone (Part 165) | 7/4/2010
USCG-2010-0514 | Harrison Township, MI | Safety Zone (Part 165) | 6/2/2010
USCG-2010-0515 | Fort Smith, AR | Safety Zone (Part 165) | 7/31/2010
USCG-2010-0516 | Oakmont, PA | Safety Zone (Part 165) | 7/24/2010
USCG-2010-0526 | Sector New York | Safety Zone (Part 165) | 7/3/2010
USCG-2010-0527 | Liverpool, NY | Safety Zone (Part 165) | 6/18/2010
USCG-2010-0528 | Lake Sammamish, WA | Safety Zone (Part 165) | 6/12/2010
USCG-2010-0531 | Surf City, NC | Safety Zone (Part 165) | 6/20/2010
USCG-2010-0532 | Greenville, MS | Safety Zone (Part 165) | 7/4/2010
USCG-2010-0537 | Vicksburg, MS | Safety Zone (Part 165) | 7/4/2010
USCG-2010-0538 | Charleston, WV | Safety Zone (Part 165) | 10/2/2010
USCG-2010-0539 | Augusta, GA | Safety Zone (Part 165) | 7/4/2010
USCG-2010-0540 | Biloxi, MS | Safety Zone (Part 165) | 7/3/2010
USCG-2010-0545 | Charleston, WV | Safety Zone (Part 165) | 10/9/2010
USCG-2010-0557 | San Diego, CA | Safety Zone (Part 165) | 7/15/2010
USCG-2010-0558 | Paulsboro, NJ | Security Zone (Part 165) | 6/16/2010
USCG-2010-0559 | Allegheny River, PA | Safety Zone (Part 165) | 7/14/2010
USCG-2010-0562 | Chesapeake, VA | Safety Zone (Part 165) | 7/6/2010
USCG-2010-0568 | Frankfort, MI | Safety Zone (Part 165) | 7/4/2010
USCG-2010-0569 | Menasha, WI | Safety Zone (Part 165) | 7/4/2010
USCG-2010-0570 | Muskegon, MI | Safety Zone (Part 165) | 7/4/2010
USCG-2010-0574 | Port Detroit Zone | Safety Zone (Part 165) | 6/18/2010
USCG-2010-0575 | Cameron Parish, LA | Security Zone (Part 165) | 6/18/2010
USCG-2010-0576 | Mississippi River | Safety Zone (Part 165) | 7/10/2010
USCG-2010-0581 | New Orleans | Safety Zone (Part 165) | 7/28/2010
USCG-2010-0582 | Natchez, MS | Safety Zone (Part 165) | 7/4/2010
USCG-2010-0583 | Guam | Safety Zone (Part 165) | 6/19/2009
USCG-2010-0584 | Bullhead City, AZ | Safety Zone (Part 165) | 7/4/2010
USCG-2010-0587 | Duluth, MN | Safety Zone (Part 165) | 7/4/2010
USCG-2010-0593 | Pittsburgh, PA | Special Local Regulation (Part 100) | 10/9/2010
USCG-2010-0594 | Pittsburgh, PA | Safety Zone (Part 165) | 8/7/2010
USCG-2010-0599 | FT Chaffee, AR | Safety Zone (Part 165) | 7/20/2010
USCG-2010-0603 | Kendall, NY | Safety Zone (Part 165) | 7/3/2010
USCG-2010-0604 | Olcott, NY | Safety Zone (Part 165) | 7/3/2010
USCG-2010-0608 | Baldwinsville, NY | Safety Zone (Part 165) | 7/3/2010
USCG-2010-0609 | Pittsburgh, PA | Special Local Regulation (Part 100) | 8/1/2010
USCG-2010-0611 | Oahu, HI | Safety Zone (Part 165) | 7/8/2010
USCG-2010-0614 | Monongahela, PA | Safety Zone (Part 165) | 7/4/2010
USCG-2010-0615 | Milwaukie, WI | Safety Zone (Part 165) | 7/3/2010
USCG-2010-0624 | Morgan City | Safety Zone (Part 165) | 7/27/2010
USCG-2010-0631 | Tampa, FL | Safety Zone (Part 165) | 7/10/2010
USCG-2010-0632 | Racine, WI | Security Zone (Part 165) | 6/30/2010
USCG-2010-0635 | Waterway, TX | Security Zone (Part 165) | 6/26/2010
USCG-2010-0639 | Mobile COTP Zone | Safety Zone (Part 165) | 7/29/2010
USCG-2010-0640 | Cleveland, OH | Security Zone (Part 165) | 6/30/2010
USCG-2010-0641 | Atlantic City, NJ | Safety Zone (Part 165) | 7/2/2010
USCG-2010-0642 | Charleston, WV | Security Zone (Part 165) | 7/2/2010
USCG-2010-0644 | Oswego, NY | Safety Zone (Part 165) | 7/4/2010
USCG-2010-0645 | Sackets Harbor, NY | Safety Zone (Part 165) | 7/4/2010
USCG-2010-0650 | Portland, OR | Safety Zone (Part 165) | 7/5/2010
USCG-2010-0651 | Buffalo, NY | Safety Zone (Part 165) | 7/4/2010
USCG-2010-0654 | North Hammond, NY | Safety Zone (Part 165) | 7/6/2010
USCG-2010-0655 | Hawaii | Security Zone (Part 165) | 7/13/2010
USCG-2010-0657 | GUAM | Safety Zone (Part 165) | 8/9/2010
USCG-2010-0665 | Norfolk, VA | Safety Zone (Part 165) | 10/2/2010
USCG-2010-0667 | San Diego, CA | Safety Zone (Part 165) | 10/3/2010
USCG-2010-0668 | San Diego, CA | Safety Zone (Part 165) | 9/12/2010
USCG-2010-0669 | Philadelphia, PA | Security Zone (Part 165) | 7/7/2010
USCG-2010-0671 | Bar Harbor, ME | Security Zone (Part 165) | 7/16/2010
USCG-2010-0674 | Willamette Rivers | Security Zone (Part 165) | 7/14/2010
USCG-2010-0676 | Lake Erie, OH | Safety Zone (Part 165) | 7/16/2010
USCG-2010-0677 | Lake of Ozarks | Safety Zone (Part 165) | 8/27/2010
USCG-2010-0678 | San Diego, CA | Safety Zone (Part 165) | 9/2/2010
USCG-2010-0681 | Charles County, MD | Safety Zone (Part 165) | 7/17/2010
USCG-2010-0682 | Sabine, TX | Security Zone (Part 165) | 7/12/2010
USCG-2010-0683 | Cameron Parish, LA | Security Zone (Part 165) | 7/12/2010
USCG-2010-0683 | Pacific Ocean, CA | Safety Zone (Part 165) | 7/17/2010
USCG-2010-0689 | San Francisco, CA | Drawbridge Operations Regulation (Part 117) | 7/25/2010
USCG-2010-0691 | Baltimore, MD | Security Zone (Part 165) | 7/20/2010
USCG-2010-0695 | Pascagoula, MS | Security Zone (Part 165) | 7/23/2010
USCG-2010-0696 | Theodore, AL | Security Zone (Part 165) | 7/22/2010
USCG-2010-0697 | Panama City, FL | Security Zone (Part 165) | 8/14/2010
USCG-2010-0698 | Panama City, FL | Security Zone (Part 165) | 8/14/2010
USCG-2010-0699 | Theodore, AL | Safety Zone (Part 165) | 8/23/2010
USCG-2010-0701 | Port Huron, MI | Safety Zone (Part 165) | 8/15/2010
USCG-2010-0704 | M/V SYLVIE | Security Zone (Part 165) | 7/25/2010
USCG-2010-0707 | Waterway, TX | Security Zone (Part 165) | 7/22/2010
USCG-2010-0714 | Allegheny County, PA | Safety Zone (Part 165) | 7/30/2010
USCG-2010-0715 | Lake Charles, LA | Safety Zone (Part 165) | 7/23/2010
USCG-2010-0720 | Waterway, TX | Security Zone (Part 165) | 7/27/2010
USCG-2010-0726 | Portsmouth, VA | Safety Zone (Part 165) | 7/29/2010
USCG-2010-0727 | Mud Lake | Safety Zone (Part 165) | 7/27/2010
USCG-2010-0729 | Blynman Canal, MA | Drawbridge Operations Regulation (Part 117) | 8/8/2010
USCG-2010-0734 | Lower Mississippi River | Safety Zone (Part 165) | 7/26/2010
USCG-2010-0736 | Sturgeon Bay, WI | Safety Zone (Part 165) | 8/12/2010
USCG-2010-0738 | Burnham Park Harbor | Security Zone (Part 165) | 8/4/2010
USCG-2010-0739 | Chicago, IL | Security Zone (Part 165) | 8/5/2010
USCG-2010-0740 | Uniontown, KY | Safety Zone (Part 165) | 8/9/2010
USCG-2010-0741 | Cheboygan, MI | Safety Zone (Part 165) | 8/3/2010
USCG-2010-0742 | Pacific Ocean, CA | Safety Zone (Part 165) | 8/21/2010
USCG-2010-0744 | Cleveland, OH | Safety Zone (Part 165) | 8/8/2010
USCG-2010-0747 | Buffalo, NY | Safety Zone (Part 165) | 8/15/2010
USCG-2010-0748 | Labor Day on the Lake | Safety Zone (Part 165) | 9/5/2010
USCG-2010-0750 | Rio Vista, CA | Drawbridge Operations Regulation (Part 117) | 8/24/2010
USCG-2010-0751 | East Isleton, CA | Drawbridge Operations Regulation (Part 117) | 8/24/2010
USCG-2010-0754 | Alaska Maritime Highway | Safety Zone (Part 165) | 9/8/2010
USCG-2010-0760 | Cleveland, OH | Safety Zone (Part 165) | 8/8/2010
USCG-2010-0762 | Bridgewater, PA | Special Local Regulation (Part 100) | 8/21/2010
USCG-2010-0763 | St Clair, MI | Safety Zone (Part 165) | 8/8/2010
USCG-2010-0764 | Bridgewater, PA | Safety Zone (Part 165) | 8/21/2010
USCG-2010-0765 | Memphis, TN | Special Local Regulation (Part 100) | 9/18/2010
USCG-2010-0768 | Waterway, TX | Security Zone (Part 165) | 8/11/2010
USCG-2010-0770 | San Diego, CA | Safety Zone (Part 165) | 9/2/2010
USCG-2010-0773 | San Diego, CA | Safety Zone (Part 165) | 10/23/2010
USCG-2010-0780 | Pacific Ocean, CA | Security Zone (Part 165) | 8/23/2010
USCG-2010-0781 | Miami Beach, FL | Security Zone (Part 165) | 8/18/2010
USCG-2010-0784 | Orange, TX | Safety Zone (Part 165) | 8/12/2010
USCG-2010-0792 | Portsmouth, VA | Safety Zone (Part 165) | 8/24/2010
USCG-2010-0793 | Boston, MA | Safety Zone (Part 165) | 8/28/2010
USCG-2010-0796 | San Diego, CA | Security Zone (Part 165) | 8/23/2010
USCG-2010-0801 | Plymouth, MA | Special Local Regulation (Part 100) | 9/5/2010
USCG-2010-0802 | Chesapeake, VA | Drawbridge Operations Regulation (Part 117) | 8/19/2010
USCG-2010-0804 | Waterway, TX | Security Zone (Part 165) | 9/9/2010
USCG-2010-0805 | Presque Isle Bay | Safety Zone (Part 165) | 9/9/2010
USCG-2010-0807 | Superior, WI | Safety Zone (Part 165) | 8/27/2010
USCG-2010-0810 | Commencement Bay, WA | Safety Zone (Part 165) | 8/28/2010
USCG-2010-0811 | San Diego, CA | Safety Zone (Part 165) | 10/9/2010
USCG-2010-0812 | Lower Mississippi River | Safety Zone (Part 165) | 8/18/2010
USCG-2010-0816 | Nashville, TN | Safety Zone (Part 165) | 9/18/2010
USCG-2010-0822 | Orange, TX | Safety Zone (Part 165) | 8/28/2010
USCG-2010-0826 | Mobile, AL | Safety Zone (Part 165) | 12/31/2010
USCG-2010-0827 | Mobile, AL | Safety Zone (Part 165) | 1/5/2011
USCG-2010-0830 | Cleveland, OH | Safety Zone (Part 165) | 9/2/2010
USCG-2010-0831 | Waterway, TX | Security Zone (Part 165) | 8/31/2010
USCG-2010-0834 | Lower Mississippi River | Special Local Regulation (Part 100) | 10/9/2010
USCG-2010-0835 | Muskegon, MI | Safety Zone (Part 165) | 9/5/2010
USCG-2010-0836 | Chicago, IL | Safety Zone (Part 165) | 9/18/2010
USCG-2010-0844 | Kendall, NY | Safety Zone (Part 165) | 9/4/2010
USCG-2010-0845 | Mississippi River | Safety Zone (Part 165) | 9/10/2010
USCG-2010-0848 | Washington, DC | Safety Zone (Part 165) | 9/11/2010
USCG-2010-0854 | Milwaukee, WI | Security Zone (Part 165) | 9/6/2010
USCG-2010-0856 | Lower Chesapeake Bay, VA | Safety Zone (Part 165) | 9/2/2010
USCG-2010-0862 | Washington, DC | Security Zone (Part 165) | 9/11/2010
USCG-2010-0863 | Waterway, TX | Security Zone (Part 165) | 9/9/2010
USCG-2010-0868 | Virginia Beach, VA | Safety Zone (Part 165) | 9/16/2010
USCG-2010-0869 | Biscayne Bay, FL | Regulated Navigation Area & Safety Zone (Part 165) | 10/9/2010
USCG-2010-0870 | Bronx, NY | Drawbridge Operations Regulation (Part 117) | 10/1/2010
USCG-2010-0871 | Toledo, OH | Safety Zone (Part 165) | 9/13/2010
USCG-2010-0874 | GUAM | Safety Zone (Part 165) | 10/5/2010
USCG-2010-0875 | Stamford Harbor, CT | Security Zone (Part 165) | 9/16/2010
USCG-2010-0876 | Waterway, TX | Security Zone (Part 165) | 9/12/2010
USCG-2010-0880 | Atlantic City, NJ | Safety Zone (Part 165) | 9/19/2010
USCG-2010-0881 | Pittsburgh, PA | Safety Zone (Part 165) | 9/28/2010
USCG-2010-0882 | Cleveland, OH | Safety Zone (Part 165) | 9/16/2010
USCG-2010-0883 | Key Largo, FL | Safety Zone (Part 165) | 9/2/2010
USCG-2010-0884 | Duxbury, MA | Special Local Regulation (Part 100) | 9/18/2010
USCG-2010-0885 | Waterway, TX | Security Zone (Part 165) | 9/17/2010
USCG-2010-0889 | Ocean City, NJ | Safety Zone (Part 165) | 9/22/2010
USCG-2010-0893 | Cleveland, OH | Safety Zone (Part 165) | 9/17/2010
USCG-2010-0894 | Philadelphia, PA | Security Zone (Part 165) | 9/20/2010
USCG-2010-0898 | Ederle Swim | Safety Zone (Part 165) | 10/23/2010
USCG-2010-0904 | San Francisco, CA | Safety Zone (Part 165) | 10/9/2010
USCG-2010-0905 | Rio Vista, CA | Safety Zone (Part 165) | 10/9/2010
USCG-2010-0906 | Baltimore, MD | Safety Zone (Part 165) | 10/2/2010
USCG-2010-0908 | Alaska | Safety Zone (Part 165) | 9/18/2010
USCG-2010-0909 | Chattanooga, TN | Special Local Regulation (Part 100) | 10/9/2010
USCG-2010-0910 | Seattle, WA | Safety Zone (Part 165) | 10/2/2010
USCG-2010-0911 | GUAM | Safety Zone (Part 165) | 9/22/2010
USCG-2010-0914 | Miami, FL | Security Zone (Part 165) | 9/24/2010
USCG-2010-0915 | Hollywood, FL | Security Zone (Part 165) | 9/24/2010
USCG-2010-0916 | Barataroa Waterway | Safety Zone (Part 165) | 9/28/2010
USCG-2010-0919 | Los Angeles, CA | Drawbridge Operations Regulation (Part 117) | 10/14/2010
USCG-2010-0920 | Miami, FL | Safety Zone (Part 165) | 10/30/2010
USCG-2010-0921 | Wellesley Island, New York | Safety Zone (Part 165) | 9/25/2010
USCG-2010-0923 | Pittsburgh, PA | Safety Zone (Part 165) | 10/2/2010
USCG-2010-0930 | Waterway, TX | Security Zone (Part 165) | 9/30/2010
USCG-2010-0931 | Lake Michigan | Security Zone (Part 165) | 10/8/2010
USCG-2010-0933 | Ocean City, NJ | Safety Zone (Part 165) | 10/9/2010
USCG-2010-0934 | Orange, TX | Safety Zone (Part 165) | 9/30/2010
USCG-2010-0936 | San Diego, CA | Safety Zone (Part 165) | 10/9/2010
USCG-2010-0938 | Nashville, TN | Safety Zone (Part 165) | 10/7/2010
USCG-2010-0944 | South Amboy, NJ | Drawbridge Operations Regulation (Part 117) | 10/18/2010
USCG-2010-0945 | Pittsburgh, PA | Safety Zone (Part 165) | 11/19/2010
USCG-2010-0946 | Pittsburgh, PA | Safety Zone (Part 165) | 11/19/2010
USCG-2010-0948 | Sacramento, CA | Drawbridge Operations Regulation (Part 117) | 10/10/2010
USCG-2010-0953 | Waterway, TX | Security Zone (Part 165) | 10/5/2010
USCG-2010-0956 | Cheboygan, MI | Safety Zone (Part 165) | 10/6/2010
USCG-2010-0959 | Pacific Ocean, CA | Safety Zone (Part 165) | 10/16/2010
USCG-2010-0960 | Pittsburgh, PA | Security Zone (Part 165) | 10/11/2010
USCG-2010-0961 | Waterway, TX | Security Zone (Part 165) | 10/18/2010
USCG-2010-0962 | Waterway, TX | Security Zone (Part 165) | 10/2/2010
USCG-2010-0969 | Lake Havasu City, Arizona | Safety Zone (Part 165) | 10/23/2010
USCG-2010-0975 | Sabine, TX | Security Zone (Part 165) | 10/15/2010
USCG-2010-0976 | Cameron Parish, LA | Security Zone (Part 165) | 10/15/2010
USCG-2010-0980 | Waterway, TX | Security Zone (Part 165) | 10/17/2010
USCG-2010-0982 | Sabine, TX | Security Zone (Part 165) | 10/20/2010
USCG-2010-0983 | Parish, LA | Security Zone (Part 165) | 10/20/2010
USCG-2010-0984 | Sabine, TX | Security Zone (Part 165) | 10/21/2010
USCG-2010-0985 | Port Arthur, TX | Security Zone (Part 165) | 10/21/2010
USCG-2010-0986 | GUAM | Safety Zone (Part 165) | 9/18/2010
USCG-2010-0987 | GUAM | Safety Zone (Part 165) | 9/19/2010
USCG-2010-0987 | St. Petersburg, FL | Safety Zone (Part 165) | 11/20/2010
USCG-2010-0996 | Lake Havasu City, Arizona | Safety Zone (Part 165) | 11/5/2010
USCG-2010-1002 | Monroe, LA | Safety Zone (Part 165) | 12/4/2010
USCG-2010-1009 | Portsmouth, New Hampshire | Safety Zone (Part 165) | 11/1/2010
USCG-2010-1010 | Sabine, TX | Safety Zone (Part 165) | 10/28/2010
USCG-2010-1017 | Jekyll Island, GA | Safety Zone (Part 165) | 12/15/2010
USCG-2010-1019 | Wellesley Island, New York | Safety Zone (Part 165) | 11/8/2010
USCG-2010-1022 | Citrus County, FL | Safety Zone (Part 165) | 11/30/2010
USCG-2010-1025 | Kodiak Island, AK | Safety Zone (Part 165) | 11/19/2010
USCG-2010-1032 | Jersey City, NJ | Drawbridge Operations Regulation (Part 117) | 11/28/2010
USCG-2010-1040 | Pittsburgh, PA | Safety Zone (Part 165) | 11/14/2010
USCG-2010-1041 | Seattle, WA | Safety Zone (Part 165) | 11/26/2010
USCG-2010-1046 | San Francisco, CA | Safety Zone (Part 165) | 12/11/2010
USCG-2010-1051 | Lower Mississippi River | Safety Zone (Part 165) | 11/21/2010
USCG-2010-1061 | San Diego, CA | Safety Zone (Part 165) | 12/4/2010
USCG-2010-1067 | Seneca, Illinois | Safety Zone (Part 165) | 11/19/2010
USCG-2010-1078 | New Orleans, LA | Safety Zone (Part 165) | 11/24/2010
USCG-2010-1081 | San Diego, CA | Safety Zone (Part 165) | 12/12/2010
USCG-2010-1099 | M/V SANKO INNOVATOR | Security Zone (Part 165) | 12/12/2010
USCG-2010-1144 | Key West, FL | Security Zone (Part 165) | 12/28/2010

[FR Doc. 2011-18933 Filed 7-26-11; 8:45 am]

BILLING CODE 9110-04-P